COMMODITY FUTURES TRADING COMMISSION

Agricultural Advisory Committee

AGENCY: Commodity Futures Trading Commission.

ACTION: Notice of meeting.

SUMMARY: The Commodity Futures Trading Commission (CFTC) announces that on September 24, 2020, from 2:00 p.m. to 5:00 p.m. (Eastern Daylight Time), the Agricultural Advisory Committee (AAC) will hold a public meeting via teleconference. At this meeting, the AAC will receive updates from the Livestock Task Force, the second quarter National Farm Loan data and the impending launch of a Brazil-based Soybean futures contract. The meeting will also include a discussion regarding the Division of Enforcement's Self-Reporting Program and the role of intermediaries and the National Futures Association in protecting market participants from fraud.

DATES: The meeting will be held on September 24, 2020, from 2:00 p.m. to 5:00 p.m. (Eastern Daylight Time). Please note that the teleconference may end early if the AAC has completed its business. Members of the public who wish to submit written statements in connection with the meeting should submit them by October 8, 2020.

ADDRESSES: The meeting will be held via teleconference. You may submit public comments on the CFTC website: https://comments.cftc.gov. Follow the instructions for submitting comments through the Comments Online process on the website.

If you are unable to submit comments online, please contact Summer Mersinger, Designated Federal Officer, via the contact information listed below to discuss alternate means of submitting your comments. Any statements submitted in connection with the committee meeting will be made available to the public, including publication on the CFTC website, https://www.cftc.gov.

FOR FURTHER INFORMATION CONTACT: Summer Mersinger, AAC Designated Federal Officer, Commodity Futures Trading Commission, Three Lafayette Centre, 1155 21st Street NW, Washington, DC 20581; SMersinger@cftc.gov; (202) 418-6074.

SUPPLEMENTARY INFORMATION: The meeting will be open to the public. Members of the public may listen to the meeting by telephone by calling a domestic toll-free telephone or international toll or toll-free number to connect to a live, listen-only audio feed. Call-in participants should be prepared to provide their first name, last name, and affiliation.

Domestic Toll Free: 877-951-7311.

International Toll and Toll Free: Will be posted on the CFTC's website, http://www.cftc.gov, on the page for the meeting, under Related Links.

Pass Code/Pin Code: 8481119.

The meeting agenda may change to accommodate other AAC priorities. For agenda updates, please visit the AAC committee site at: https://www.cftc.gov/About/CFTCCommittees/AgriculturalAdvisory/index.htm.

All written submissions provided to the CFTC in any form will also be published on the CFTC's website. Persons requiring special accommodations to attend the meeting because of a disability should notify the contact person above.

(Authority: 5 U.S.C. app. 2 section 10(a)(2)).

Dated: September 2, 2020.
Robert Sidman,
Deputy Secretary of the Commission.

[FR Doc. 2020-19775 Filed 9-4-20; 8:45 am]

BILLING CODE 6351-01-P